DEPARTMENT OF COMMERCE

National Oceanic and Atmospheric Administration

Evaluation of Coastal Zone Management Program

AGENCY: Office of Ocean and Coastal Resource Management, National Ocean Service, National Oceanic and Atmospheric Administration (NOAA), DOC.

ACTION: Notice of intent to evaluate.

SUMMARY: The NOAA Office of Ocean and Coastal Resource Management (OCRM) announces its intent to evaluate the performance of the U.S. Virgin Islands Coastal Zone Management Program.

This Coastal Zone Management Program evaluation will be conducted pursuant to section 312 of the Coastal Zone Management Act of 1972, as amended, (CZMA) and regulations at 15 CFR part 923, subpart L.

The CZMA requires continuing review of the performance of states and territories with respect to coastal program implementation. Evaluation of Coastal Zone Management Programs requires findings concerning the extent to which a state or territory has met the national objections, adhered to its Coastal Zone Management Program document approved by the Secretary of Commerce, and adhered to the terms of financial assistance awards funded under the CZMA.

The evaluation will include a site visit, consideration of public comments, and consultations with interested Federal, state, and local agencies and members of the public. Public meetings will be held as part of the site visit.

Notice is hereby given of the dates of the site visit for this evaluation, and the dates, local times, and locations of the public meetings during the site visit.

The U.S. Virgin Islands Coastal Zone Management Program evaluation site visit will be held June 9-13, 2003. Three public meetings will be held during the week. The first will be held on Tuesday, June 10, 2003, 6 p.m.-8 p.m., Department of Planning and National Resources Conference Room, Cyril E. King Airport, Terminal Building 2nd Floor, St. Thomas, U.S. Virgin Islands 00802. The second will be held on Wednesday, June 11, 2003, 6 p.m.-8 p.m., Florence Williams Public Library, 1122 King Street, Christiansted St. Croix, U.S. Virgin Islands 00820. The third will be held on Thursday, June 12, 2003, 6 p.m.—8 p.m., Legislature of the Virgin Islands Conference Room, 109 Contant-Enighed, Hilltop Building, Cruz Bay, St. John, U.S. Virgin Islands 00831.

Copies of the U.S. Virgin Island's most recent performance reports, as well as OCRM's notification and supplemental request letters to the Territory, are available upon request from OCRM. Written comments from interested parties regarding this Program are encouraged and will be accepted until 15 days after the last public meeting. Please direct written comments to Ralph Cantral, Chief, National Policy and Evaluation Division, Office of Ocean and Coastal Resource Management, NOS/NOAA, 1305 East-West Highway, 10th floor, Silver Spring, Maryland 20910. When the evaluation is completed, OCRM will place a notice in the Federal Register announcing the availability of the Final Evaluation Findings.

FOR FURTHER INFORMATION CONTACT: Ralph Cantral, Chief, National Policy and Evaluation Division, Office of Ocean and Coastal Resource Management, NOS/NOAA, 1305 East-West Highway, Silver Spring, Maryland 20910, (301) 713-3155, Extension 118.

(Federal Domestic Assistance Catalog 11.419, Coastal Zone Management Program Administration)
Dated: April 18, 2003.
Captain Ted I. Lillestolen,
Associate Deputy Assistant Administrator for Ocean Services and Coastal Zone Management.

[FR Doc. 03-10159 Filed 4-23-03; 8:45 am]

BILLING CODE 3510-08-M